DEPARTMENT OF THE INTERIOR

Bureau of Indian Affairs

Indian Gaming

AGENCY: Bureau of Indian Affairs, Interior.

ACTION: Notice of amendment to approved Tribal—State Class III gaming compact.

SUMMARY: This notice publishes the Approval of the Tribal—State Compact between the State of Washington and the Tulalip Tribe.

DATES: Effective Date: December 10, 2007.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal—State compacts for the purpose of engaging in Class III gaming activities on Indian lands. The Amendment allows for a technical amendment of an alternative standard to allow recall of cash and cash equivalent requirements for a player terminal.

Dated: November 16, 2007.
Carl J. Artman,
Assistant Secretary—Indian Affairs.

[FR Doc. E7-23886 Filed 12-7-07; 8:45 am]

BILLING CODE 4310-4N-P